DEPARTMENT OF THE INTERIOR

National Park Service

Merced Wild and Scenic River Comprehensive Management Plan; Yosemite National Park, Mariposa and Madera Counties, CA; Notice of Intent To Prepare an Environmental Impact Statement

Summary: Pursuant to the National Environmental Policy Act (Pub. L. 91-190) and the Wild and Scenic Rivers Act (Pub. L. 90-542), the National Park Service is initiating public scoping for the conservation planning and environmental impact analysis process for a Merced Wild and Scenic River Comprehensive Management Plan (MRP) and Environmental Impact Statement (EIS) in Yosemite National Park. The MRP/EIS will be a comprehensive document that guides future management of the Merced River corridor, and will comply with all applicable legal requirements. The purpose of this scoping outreach is to solicit early public comments about issues and concerns that should be addressed in the plan, including a suitable range of alternatives, appropriate mitigation measures, and the nature and extent of potential environmental impacts.

Background: In 1987, Congress designated 122 miles of the Merced River and its South Fork as Wild and Scenic, including the 81 miles within Yosemite National Park and the El Portal Administrative Site. The National Park Service (NPS) completed the Merced Wild and Scenic River Comprehensive Management Plan/Final Environmental Impact Statement in August, 2000. Soon after, two citizen's groups filed suit in the U.S. District Court for the Eastern District of California. This initiated a series of court proceedings that culminated in a 2006 District Court decision that invalidated the park's revised 2005 plan, the Merced Wild and Scenic River Revised Comprehensive Management Plan/Supplemental Environmental Impact Statement. Subsequently, the court ordered the NPS to prepare a new comprehensive management plan. On January 9, 2007, the NPS proposed a 33-month timeline to the court for the preparation of the new MRP/EIS, which would result in a Record of Decision on September 30, 2009.

Scoping and Public Meetings: The participation of interested individuals and organizations is important to the conservation planning and environmental impact analysis process. During the scoping phase, the public is invited to share ideas and concerns that should be considered in development of the draft MRP. Yosemite National Park will consult tribal, federal, state, and local governments, and will receive public input during an extended period concluding 60 days from the date of publication of this Notice in the Federal Register. The scoping period will be publicized via the internet, direct mailings, and press releases distributed to local and regional media. Dates, times, specific locations, and additional information will be available in regional and local news sources, and updates will be available at http://www.nps.gov/yose/planning/.

Written comments should be addressed to the Superintendent, Attn: Merced River Plan, Yosemite National Park, PO Box 577, Yosemite National Park, California 95389, or faxed to (209) 379-1294. All comments must be postmarked or faxed not later than 60 days from the publication date of this Notice in the Federal Register (or if sent via e-mail, transmitted by that date to Yose_Planning@nps.gov). Immediately upon confirmation of this date it will be announced on the project Web site and via announcements in local and regional press media.

Before including your address, phone number, e-mail address, or other personal identifying information in your comment, be advised that your entire comment—including your personal identifying information—may be made publicly available at any time. While you can ask us in your comment to withhold from public review your personal identifying information, we cannot guarantee that we will be able to do so.

Decision Process: Information about future public involvement opportunities, including workshops for preliminary alternatives formulation and the later public review of the draft EIS, will be publicized in regional news media, by mailings, and postings to the project's Web site. Following due consideration of comments received in response to the draft EIS, a final EIS will be prepared. As a delegated EIS the official responsible for approval of the MRP is the Regional Director, Pacific West Region (at this time a decision is anticipated during September, 2009). Subsequently the Superintendent, Yosemite National Park would be responsible for implementing the MRP.

Dated: February 12, 2007.
Patricia L. Neubacher,
Acting Regional Director, Pacific West Region.

[FR Doc. E7-6832 Filed 4-10-07; 8:45 am]

BILLING CODE 4312-F4-P